DEPARTMENT OF TRANSPORTATION

Federal Aviation Administration

14 CFR Part 39

[Docket No. FAA-2017-0245; Directorate Identifier 2017-NM-023-AD; Amendment 39-18841; AD 2017-07-05]

RIN 2120-AA64

Airworthiness Directives; Airbus Airplanes

AGENCY: Federal Aviation Administration (FAA), DOT.

ACTION: Final rule; request for comments.

SUMMARY: We are adopting a new airworthiness directive (AD) for all Airbus Model A330-243, -243F, -341, -342, and -343 airplanes. This AD requires an inspection to determine if affected hydraulic pressure tube assemblies are installed, and replacement with serviceable hydraulic pressure tube assemblies if necessary. This AD also requires repetitive replacements of serviceable hydraulic pressure tube assemblies. This AD was prompted by a determination that cracks can develop on the ripple damper of the hydraulic pressure tube assembly and reports of failure of the ripple damper of the hydraulic pressure tube assembly. We are issuing this AD to address the unsafe condition on these products.

DATES: This AD becomes effective April 17, 2017.

The Director of the Federal Register approved the incorporation by reference of a certain publication listed in this AD as of April 17, 2017.

We must receive comments on this AD by May 15, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2017-0245.

Examining the AD Docket

You may examine the AD docket on the Internet at http://www.regulations.gov by searching for and locating Docket No. FAA-2017-0245; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the Technical Agent for the Member States of the European Union, has issued EASA Airworthiness Directive 2017-0041, dated February 24, 2017; corrected February 28, 2017 (referred to after this as the Mandatory Continuing Airworthiness Information, or “the MCAI”), to correct an unsafe condition for all Airbus Model A330-243, -243F, -341, -342, and -343 airplanes. The MCAI states:

Following introduction in-service of Airbus modification (mod) 205242, a new hydraulic pressure tube assembly Part Number (P/N) AE711121-18 was installed, one on each engine, with an integral ripple damper. It was determined that, at a relatively low number of cycles, cracks can develop on the ripple damper weld of this new hydraulic pressure tube, which could lead to hydraulic leakage and consequent loss of the green hydraulic system. Recently, there has been a high rate of failure of the affected dampers that, if continued, may exceed the overall safety objective of the certified design.

This condition, if not corrected, could, in combination with other system failures, result in reduced control of the aeroplane.

Prompted by these findings, Airbus issued Alert Operators Transmission (AOT) A71L012-16 Revision 01, to provide instructions to replace the hydraulic pressure tube assembly P/N AE711121-18 with an improved assembly, P/N AE711121-18 Rev A, equipped with a double-welded ripple damper.

For the reasons described above, this [EASA] AD requires [inspection for and] replacement of each affected hydraulic pressure tube assembly with a [serviceable] tube assembly having the double welded ripple damper installed. This [EASA] AD also requires implementation of a life limit on the new part [i.e., repetitive replacements of serviceable hydraulic pressure tube assemblies]. This [EASA] AD is considered as interim measure and further AD action may follow.

This [EASA] AD is republished to correct the TCDS number and add a previous manufacturer name.

You may examine the MCAI on the Internet at http://www.regulations.gov by searching for and locating Docket No. FAA-2017-0245.

Related Service Information Under 1 CFR Part 51

Airbus has issued Alert Operators Transmission (AOT) A71L012-16, Revision 01, dated February 24, 2017. The service information describes procedures for replacing hydraulic pressure tube assembly, part number (P/N) AE711121-18, and hydraulic pressure tube assembly, P/N AE711121-18 Rev A. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type design.

Difference Between This AD and the MCAI

The MCAI mandates replacement of the hydraulic pressure tube assembly, using Airbus AOT A71L012-16, Revision 01, dated February 24, 2017. However, Airbus AOT A71L012-16, Revision 01, dated February 24, 2017, also specifies to first inspect or do a records review to determine the part number of the hydraulic pressure tube assembly. Therefore, paragraph (i) of this AD requires the inspection or records review.

The MCAI includes a compliance time of “within 5 months” for the replacement of the affected part. We have determined that a compliance time of “within 4 months” is necessary to adequately address the identified unsafe condition. We have included the 4-month compliance time in paragraphs (j), (l), and (m) of this AD.

We have coordinated these differences with EASA.

FAA's Determination of the Effective Date

An unsafe condition exists that requires the immediate adoption of this AD. The FAA has found that the risk to the flying public justifies waiving notice and comment prior to adoption of this rule because cracks can develop on the ripple damper of the hydraulic pressure tube assembly, which could lead to hydraulic leakage and consequent loss of the green hydraulic system and because of reports of failure of the ripple damper of the hydraulic pressure tube assembly. This condition could, in combination with other system failures, result in reduced control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2017-0245; Directorate Identifier 2017-NM-023-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 53 airplanes of U.S. registry.

We also estimate that it will take about 5 work-hours per product to comply with the basic requirements of this AD. The average labor rate is $85 per work-hour. Required parts will cost about $20,000 per product. Based on these figures, we estimate the cost of this AD on U.S. operators to be $1,082,525, or $20,425 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-07-05 Airbus: Amendment 39-18841; Docket No. FAA-2017-0245; Directorate Identifier 2017-NM-023-AD.

(a) Effective Date

This AD becomes effective April 17, 2017.

(b) Affected ADs

None.

(c) Applicability

This AD applies to Airbus Model A330-243, -243F, -341, -342, and -343 airplanes, certificated in any category, all manufacturer serial numbers.

(d) Subject

Air Transport Association (ATA) of America Code 71, Powerplant.

(e) Reason

This AD was prompted by a determination that cracks can develop on the ripple damper of the hydraulic pressure tube assembly, which could lead to hydraulic leakage and consequent loss of the green hydraulic system. This AD was also prompted by reports of failure of the ripple damper of the hydraulic pressure tube assembly. We are issuing this AD to prevent cracking and failure of the ripple damper of the hydraulic pressure tube assembly, which could, in combination with other system failures, result in reduced control of the airplane.

(f) Compliance

Comply with this AD within the compliance times specified, unless already done.

(g) Definition of Affected Part

For the purpose of this AD, a hydraulic pressure tube assembly, part number (P/N) AE711121-18, as introduced by Airbus mod 205242, is hereafter referred to as an “affected part” in this AD.

(h) Definition of Serviceable Part

For the purpose of this AD, a “serviceable part” is a hydraulic pressure tube assembly (which has a double-welded ripple damper installed), P/N AE711121-18 Rev A, that has accumulated fewer than 800 total flight cycles since first installation on an airplane. The hydraulic pressure tube assembly, P/N AE711121-18 Rev A, is introduced by Airbus mod 206979 on the production line.

(i) Identification of Affected Parts

Within 15 days after the effective date of this AD, inspect to determine the part number of the hydraulic pressure tube assembly that is installed on each engine. A review of airplane maintenance records is acceptable in lieu of this inspection if the part number of the hydraulic pressure tube assembly can be conclusively determined from that review.

(j) Replacement of Affected Parts

Within the compliance time specified in table 1 to paragraph (j) of this AD, as applicable, or within 4 months after the effective date of this AD, whichever occurs first, replace each affected part (see paragraph (g) of this AD) with a serviceable part (see paragraph (h) of this AD), in accordance with the instructions of Airbus Alert Operators Transmission (AOT) A71L012-16, Revision 01, dated February 24, 2017.

Table 1 to Paragraph (j) of This AD—Replacement Compliance Times
Flight cycles accumulated * | Compliance time
Fewer than 775 total flight cycles | Before exceeding 800 total flight cycles on the affected hydraulic pressure tube assembly since first installation on an airplane.
775 total flight cycles or more | Within 25 flight cycles after the effective date of this AD.
An unknown number of flight cycles accumulated | Within 25 flight cycles after the effective date of this AD.
* Unless specified otherwise, the flight cycles in the “flight cycles accumulated” column of table 1 to paragraph (j) of this AD are those accumulated by an affected hydraulic pressure tube assembly, on the effective date of this AD, since first installation on an airplane.

(k) Repetitive Replacement of Serviceable Parts—Life Limit

Before a serviceable part (see paragraph (h) of this AD) exceeds 800 total flight cycles since first installation on an airplane, replace it with a serviceable part, in accordance with the instructions of Airbus AOT A71L012-16, Revision 01, dated February 24, 2017.

(l) Engine Installation Limitation

As of the effective date of this AD, except as required by paragraph (m) of this AD, it is allowed to install on any airplane a replacement engine having an affected part (see paragraph (g) of this AD) installed, provided that, before that affected part exceeds 800 total flight cycles since first installation on an airplane, or within 4 months after the effective date of this AD, whichever occurs first, the part is replaced with a serviceable part (see paragraph (h) of this AD), in accordance with the instructions of Airbus AOT A71L012-16, Revision 01, dated February 24, 2017.

(m) Parts and Engine Installation Prohibition

As of 4 months after the effective date of this AD: Do not install on any airplane an affected part (see paragraph (g) of this AD), or an engine having an affected part installed.

(n) Credit for Previous Actions

This paragraph provides credit for actions required by paragraph (j) of this AD, if those actions were performed before the effective date of this AD using Airbus AOT A71L012-16, dated December 22, 2016.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(p) Related Information

(1) Refer to Mandatory Continuing Airworthiness Information (MCAI) EASA Airworthiness Directive 2017-0041, dated February 24, 2017; corrected February 28, 2017, for related information. This MCAI may be found in the AD docket on the Internet at http://www.regulations.gov by searching for and locating Docket No. FAA-2017-0245.

(2) For more information about this AD, contact Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(3) Service information identified in this AD that is not incorporated by reference is available at the addresses specified in paragraphs (q)(3) and (q)(4) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission (AOT) A71L012-16, Revision 01, dated February 24, 2017.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 17, 2017.
Michael Kaszycki,
Acting Manager, Transport Airplane Directorate, Aircraft Certification Service.

[FR Doc. 2017-06098 Filed 3-30-17; 8:45 am]

BILLING CODE 4910-13-P